DEPARTMENT OF HEALTH AND HUMAN SERVICES

Food and Drug Administration

21 CFR Part 584

Food Substances Affirmed as Generally Recognized as Safe in Feed and Drinking Water of Animals; Ethyl Alcohol Containing Ethyl Acetate

AGENCY: Food and Drug Administration, HHS.

ACTION: Final rule; technical amendment.

SUMMARY: The Food and Drug Administration (FDA) is amending the animal drug regulations for food substances affirmed as generally recognized as safe (GRAS) in feed and drinking water of animals to correct a cross-reference. This action is being taken to improve the accuracy of the regulations.

DATES: This rule is effective July 31, 2007.

FOR FURTHER INFORMATION CONTACT: Michaela G. Alewynse, Center for Veterinary Medicine (HFV-228), Food and Drug Administration, 7519 Standish Pl., Rockville, MD 20855, 240-453-6866, e-mail: mika.alewynse@fda.hhs.gov.

SUPPLEMENTARY INFORMATION: FDA has found that the regulation affirming as GRAS the use of ethyl alcohol containing ethyl acetate as a source of added energy in ruminant feed does not reflect the correct cross-reference to the regulations of the Bureau of Alcohol, Tobacco, Firearms and Explosives (ATF). This error was introduced when sections containing formulas for denatured alcohol and rum were removed and added by ATF in 1983 (48 FR 24672, June 2, 1983). At this time, the regulation is being amended in 21 CFR 584.200 to add the correct cross-reference. This action is being taken to improve the accuracy of the regulations.

Publication of this document constitutes final action on this change under the Administrative Procedure Act (5 U.S.C. 553). Notice and public procedure are unnecessary because FDA is merely correcting a nonsubstantive error.

This rule does not meet the definition of “rule” in 5 U.S.C. 804(3)(A) because it is a rule of “particular applicability.” Therefore, it is not subject to the congressional review requirements in 5 U.S.C. 801-808.

List of Subjects in 21 CFR Part 584

Animal feeds, Food additives.

Therefore, under the Federal Food, Drug, and Cosmetic Act and under authority delegated to the Commissioner of Food and Drugs, 21 CFR part 584 is amended as follows:

PART 584—FOOD SUBSTANCES AFFIRMED AS GENERALLY RECOGNIZED AS SAFE IN FEED AND DRINKING WATER OF ANIMALS

1. The authority citation for 21 CFR part 584 continues to read as follows:

Authority: 21 U.S.C. 321, 342, 348, 371.

§ 584.200 [Amended]

2. In § 584.200, remove “27 CFR 212.45” and add in its place “27 CFR 21.62”.

Dated: July 23, 2007.
Jeffrey Shuren,
Assistant Commissioner for Policy.

[FR Doc. E7-14700 Filed 7-30-07; 8:45 am]

BILLING CODE 4160-01-S